DEPARTMENT OF TRANSPORTATION

Federal Aviation Administration

14 CFR Part 39

[Docket No. FAA-2009-0007; Directorate Identifier 2008-CE-072-AD]

RIN 2120-AA64

Airworthiness Directives; Piper Aircraft, Inc. Models PA-46-350P and PA-46R-350T Airplanes

AGENCY: Federal Aviation Administration (FAA), Department of Transportation (DOT).

ACTION: Notice of proposed rulemaking (NPRM).

SUMMARY: We propose to adopt a new airworthiness directive (AD) for certain Piper Aircraft, Inc. Models PA-46-350P and PA-46R-350T airplanes. This proposed AD would require an inspection to verify the 35-amp and 250-amp current limiters are installed in the proper locations and would require a correction to the installation if the current limiters are not installed in the proper locations. This proposed AD would also limit operation to “only under day visual flight rules (VFR)” until the current limiter installation is inspected and corrected. This proposed AD results from three reports of incorrectly installed current limiters. We are proposing this AD to detect incorrect installation of 35-amp and 250-amp current limiters, which could result in failure of the 35-amp current limiter if installed in the 250-amp location. This failure could lead to a total loss of electrical power.

DATES: We must receive comments on this proposed AD by March 16, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Piper Aircraft, Inc., 2926 Piper Drive, Vero Beach, Florida 32960; telephone: (772) 978-6573; Internet: http://www.newpiper.com/company/publications.asp.

FOR FURTHER INFORMATION CONTACT: John Lee, Aerospace Engineer, One Crown Center, 1895 Phoenix Blvd., Suite 450, Atlanta, Georgia 30349; telephone: (770) 994-6736; fax: (770) 703-6097.

SUPPLEMENTARY INFORMATION:

Comments Invited

We invite you to send any written relevant data, views, or arguments regarding this proposed AD. Send your comments to an address listed under the ADDRESSES section. Include the docket number, “FAA-2009-0007; Directorate Identifier 2008-CE-072-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received information that, when troubleshooting an alternator problem, a mechanic found a blown 35-amp current limiter installed in place of a 250-amp current limiter in the electrical power panel assembly on a Piper Aircraft, Inc. Model PA-46-350P airplane. Further inspection revealed a 250-amp current limiter installed in place of a 35-amp current limiter in the same electrical power panel assembly. The 35-amp current limiter was installed where the 250-amp current limiter should have been installed, and the 250-amp current limiter was installed where the 35-amp current limiter should have been installed. We have also received reports of two other occurrences of current limiters installed in the wrong locations on the affected airplanes.

This condition, if not corrected, could result in total loss of electrical power.

Relevant Service Information

We have reviewed Piper Aircraft, Inc. Service Bulletin No. 2000, dated September 16, 2008. The service information describes procedures for inspecting the 35-amp and 250-amp current limiter installations and correcting the installation if the current limiters are not installed in the proper locations.

FAA's Determination and Requirements of the Proposed AD

We are proposing this AD because we evaluated all information and determined the unsafe condition described previously is likely to exist or develop on other products of the same type design. This proposed AD would require an inspection to verify the 35-amp and 250-amp current limiters are installed in the proper locations and correct the installation if the current limiters are not installed in the proper locations. This proposed AD would also limit operation to only under day VFR until the current limiter installation is inspected and corrected.

Costs of Compliance

We estimate that this proposed AD would affect 118 airplanes in the U.S. registry.

We estimate the following costs to do the proposed inspection:

Labor cost | Parts cost | Total cost per airplane | Total cost on U.S. operators
1 work-hour × $80 per hour = $80 | Not applicable | $80 | $9,440

We estimate the following costs to do any necessary repairs that would be required based on the results of the proposed inspection. We have no way of determining the number of airplanes that may need this repair:

Labor cost | Parts cost | Total cost per airplane
1 work-hour × $80 per hour = $80 | Not applicable | $80

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Piper Aircraft, Inc.: Docket No. FAA-2009-0007; Directorate Identifier 2008-CE-072-AD.

Comments Due Date

(a) We must receive comments on this airworthiness directive (AD) action by March 16, 2009.

Affected ADs

(b) None.

Applicability

(c) This AD applies to the following airplane models and serial numbers that are certificated in any category:

Models | Serial Nos.
PA-46-350P | 4636375 through 4636447.
PA-46R-350T | 4692001 through 4692068.

Unsafe Condition

(d) This AD results from three reports of incorrectly installed current limiters. We are issuing this AD to detect incorrect installation of 35-amp and 250-amp current limiters, which could result in failure of the 35-amp current limiter if installed in the 250-amp location. This failure could lead to a total loss of electrical power.

Compliance

(e) To address this problem, you must do the following, unless already done:

Actions | Compliance | Procedures
(1) Insert the following into the Limitations section of the airplane flight manual (AFM): “Operate Only under Day Visual Flight Rules (VFR).” You may remove the limitations specified in this paragraph after doing the action required in paragraphs (e)(2) and (e)(3) of this AD, as applicable | Before further flight after the effective date of this AD | Under 14 CFR 43.7, the owner/operator holding at least a private pilot certificate is allowed to insert the information into the AFM as specified in paragraph (e)(1) of this AD. You may insert a copy of this AD into the Limitations section of the AFM to comply with this action. Make an entry into the aircraft logbook showing compliance with this portion of the AD per compliance with 14 CFR 43.9.
(2) Inspect the 35-amp and 250-amp current limiters for installation in the proper location | Within 100 hours time-in-service after the effective date of this AD | Follow Piper Aircraft, Inc. Service Bulletin No. 2000, dated September 16, 2008.
(3) If you find any current limiter not in the proper location, reinstall the current limiter in the proper location | Before further flight after the inspection required in paragraph (e)(2) of this AD | Follow Piper Aircraft, Inc. Service Bulletin No. 2000, dated September 16, 2008.

Alternative Methods of Compliance (AMOCs)

(f) The Manager, Atlanta Aircraft Certification Office (ACO), FAA, has the authority to approve AMOCs for this AD, if requested using the procedures found in 14 CFR 39.19. Send information to ATTN: John Lee, Aerospace Engineer, One Crown Center, 1895 Phoenix Blvd., Suite 450, Atlanta, Georgia 30349; telephone: (770) 994-6736; fax: (770) 703-6097. Before using any approved AMOC on any airplane to which the AMOC applies, notify your appropriate principal inspector (PI) in the FAA Flight Standards District Office (FSDO), or lacking a PI, your local FSDO.

Related Information

(g) To get copies of the service information referenced in this AD, contact Piper Aircraft, Inc., 2926 Piper Drive, Vero Beach, Florida 32960; telephone: (772) 978-6573; Internet: http://www.newpiper.com/company/publications.asp. To view the AD docket, go to U.S. Department of Transportation, Docket Operations, M-30, West Building Ground Floor, Room W12-140, 1200 New Jersey Avenue, SE., Washington, DC 20590, or on the Internet at http://www.regulations.gov.

Issued in Kansas City, Missouri, on January 7, 2009.
John Colomy,
Acting Manager, Small Airplane Directorate, Aircraft Certification Service.

[FR Doc. E9-728 Filed 1-14-09; 8:45 am]

BILLING CODE 4910-13-P